DEPARTMENT OF TRANSPORTATION

Maritime Administration

[Docket No. MARAD-2025-0095]

Request for Comments on the Renewal of a Previously Approved Information Collection: Application for Waiver of the Coastwise Trade Laws for Small Passenger Vessels

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0529 (Application for Waiver of the Coastwise Trade Laws for Small Passenger Vessels) is used to identify the effect of potential foreign-built small passenger vessel coastwise operations on U.S. vessel builders and coastwise trade businesses. Since the last renewal there was an increase in the total respondents, responses, burden hours and cost to respondents. MARAD is required to publish this notice in the Federal Register to obtain comments from the public and affected agencies.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: Patricia Hagerty, (202) 366-0903, Office of Cargo and Commercial Sealift, Maritime Administration, 1200 New Jersey Avenue SE, Washington, DC 20590, Email: smallvessels@dot.gov.

SUPPLEMENTARY INFORMATION:

Title: Application for Waiver of the Coastwise Trade Laws for Small Passenger Vessels.

OMB Control Number: 2133-0529.

Type of Request: Extension With Change of a Currently Approved Collection.

Abstract: Owners of foreign-built small passenger vessels must request an eligibility determination from the Maritime Administration (MARAD) to engage in coastwise trade.

Respondents: Owners and prospective owners, vessel agents, brokers, and charterers of U.S. built vessels; vessels that were not U.S. built and is at least 3 years old; or if U.S. rebuilt, was rebuilt in the U.S. or outside of the United States at least 3 years before a coastwise endorsement under 46 U.S.C. 12121(b) would take effect.

Affected Public: U.S. vessel builders and owners of U.S. passenger vessels.

Estimated Number of Respondents: 200.

Estimated Number of Responses: 200.

Estimated Hours per Response: 1.

Annual Estimated Total Annual Burden Hours: 200.

Frequency of Response: Annually.

A 60-day Federal Register Notice soliciting comments on this information collection was published on June 9, 2025, in the Federal Register 90 FR 24312 indicating comments should be submitted on or before August 8, 2025. The posting received two public comments in reference to this collection renewal. One comment was non-substantive and unrelated to the program. The other comment from the Passenger Vessel Association was substantive and will be further evaluated and provided a more detailed response.

(Authority: The Paperwork Reduction Act of 1995; 44 U.S.C. Chapter 35, as amended; and 49 CFR 1.49.)

By Order of the Maritime Administration.
T. Mitchell Hudson, Jr.,
Secretary, Maritime Administration.

[FR Doc. 2025-16439 Filed 8-27-25; 8:45 am]

BILLING CODE 4910-81-P